DEPARTMENT OF HEALTH AND HUMAN SERVICES

National Institutes of Health

National Institute of Arthritis and Musculoskeletal and Skin Diseases; Notice of Closed Meeting

Pursuant to section 1009 of the Federal Advisory Committee Act, as amended, notice is hereby given of a meeting of the Board of Scientific Counselors, NIAMS.

The meeting will be closed to the public as indicated below in accordance with the provisions set forth in section 552b(c)(6), Title 5 U.S.C., as amended for the review, discussion, and evaluation of individual intramural programs and projects conducted by the National Institute of Arthritis and Musculoskeletal and Skin Diseases, including consideration of personnel qualifications and performance, and the competence of individual investigators, the disclosure of which would constitute a clearly unwarranted invasion of personal privacy.

Name of Committee: Board of Scientific Counselors, NIAMS.

Date: April 24-25, 2024.

Time: April 24-25, 2024, 9:00 a.m. to 12:30 p.m..

Agenda: To review and evaluate personnel qualifications and performance, and competence of individual investigators.

Place: NIH Bethesda Main Campus, Building 10, 12S233 (NIAMS 12th floor conference room), Bethesda, MD (Hybrid meeting).

Contact Person: John J. O'Shea, MD, Ph.D., Scientific Director, Intramural Research Program, National Institute of Arthritis & Musculoskeletal and Skin Diseases, Building 10, Room 9N228, Bethesda, MD 20892, (301) 496-2612, osheaj@arb.niams.nih.gov.

(Catalogue of Federal Domestic Assistance Program Nos. 93.846, Arthritis, Musculoskeletal and Skin Diseases Research, National Institutes of Health, HHS)

Dated: March 14, 2024.
Miguelina Perez,
Program Analyst, Office of Federal Advisory Committee Policy.

[FR Doc. 2024-05824 Filed 3-19-24; 8:45 am]

BILLING CODE 4140-01-P